COMMISSION ON CIVIL RIGHTS

Sunshine Act Meeting Notice

AGENCY: Commission on the Social Status of Black Men and Boys (CSSBMB), U.S. Commission on Civil Rights.

ACTION: Notice of meeting.

SUMMARY: In accordance with the Government in Sunshine Act (5 U.S.C. 552b), the Commission on Civil Rights is holding an in-person summit focused on policy initiatives that address systemic issues affecting the Black community.

DATES: Monday, July 24, 2023, 11 a.m. EST.

ADDRESSES: Meeting is open to the public to take place in person at the National Press Club, 529 14th St NW, Washington, DC 20045; and virtually via livestream on the Commission's YouTube page: https://www.youtube.com/user/USCCR/videos.

FOR FURTHER INFORMATION CONTACT: Diamond Newman: dnewman@usccr.gov: 202-376-8371.

SUPPLEMENTARY INFORMATION: This business meeting is open to the public. Computer assisted real-time transcription (CART) will be provided. The web link to access CART (in English) on Monday, July 24, 2023, is https://www.streamtext.net/player?event=USCCR. Please note that CART is text-only translation that occurs in real time during the meeting and is not an exact transcript.

Meeting Agenda

I. ACT NOW Summit

II. Adjourn Meeting

Dated: July 19, 2023.
Angelia Rorison,
USCCR Media and Communications Director.

[FR Doc. 2023-15614 Filed 7-19-23; 4:15 pm]

BILLING CODE 6335-01-P